NUCLEAR REGULATORY COMMISSION

[NRC-2024-0166]

NRC Implementation of the Accelerating Deployment of Versatile, Advanced Nuclear for Clean Energy Act of 2024

AGENCY: Nuclear Regulatory Commission.

ACTION: Notice of public meetings.

SUMMARY: The U.S. Nuclear Regulatory Commission (NRC) is implementing the requirements in the Accelerating Deployment of Versatile, Advanced Nuclear for Clean Energy Act of 2024 (the ADVANCE Act, or the Act). The NRC plans to hold public meetings periodically to support the NRC's implementation of the ADVANCE Act.

DATES: This document was published in the Federal Register on September 26, 2024. Public meetings will be noticed in the NRC's Public Meeting Notice System at least 10 days in advance of the scheduled meeting. The NRC will not issue a separate Federal Register notice each time a public meeting is scheduled.

FOR FURTHER INFORMATION CONTACT: Shilp Vasavada, Office of the Executive Director for Operations, telephone: 301-415-1228; email: Shilp.Vasavada@nrc.gov; or Aaron McCraw, Office of the Executive Director for Operations, telephone: 630-829-9650; email: Aaron.McCraw@nrc.gov. Both are staff of the U.S. Nuclear Regulatory Commission, Washington, DC 20555-0001.

SUPPLEMENTARY INFORMATION:

I. Obtaining Information

You may obtain publicly available information related to the NRC's implementation of the ADVANCE Act by any of the following methods:

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

II. Background

The ADVANCE Act was signed into law by President Biden on July 9, 2024. The Act, which can be found at https://www.congress.gov/118/bills/s870/BILLS-118s870enr.pdf, contains a variety of requirements relevant to the NRC. They address a wide range of NRC activities, such as the NRC's budgeting process, recruitment and retention of the NRC workforce, reduced fee rates for advanced nuclear reactor applicants and pre-applicants, the regulatory framework for advanced reactors and fusion technology, as well as strategies to enhance the NRC's efficient, timely, and predictable reviews of license applications. The Act also requires the NRC to provide reports to Congress on various topics. The NRC has initiated implementation of the Act and will be taking additional actions to carry out the Act's provisions, including requirements with deadlines over the course of the next few years.

III. Discussion

The ADVANCE Act requires the NRC to take a number of actions while maintaining the NRC's core mission to protect public health and safety and promote the common defense and security. The NRC is undertaking multiple actions to implement the requirements of the ADVANCE Act and meet the Act's various deadlines. The NRC will periodically hold public meetings on the NRC's efforts to implement the ADVANCE Act. The NRC may make preliminary material, such as white papers, available to support stakeholder engagement during public meetings. If preliminary material is released to support a public meeting on ADVANCE Act implementation, information about the preliminary material will be included in the corresponding public meeting notice. The information discussed at the public meetings and any preliminary material made publicly available may be incomplete in one or more respects; however, the NRC welcomes diverse stakeholder feedback to inform its efforts to implement the ADVANCE Act.

Public meetings to support the NRC's implementation of the ADVANCE Act will be noticed in the NRC's Public Meeting Notice System at least 10 days in advance of the scheduled meeting. The NRC will not issue a Federal Register notice each time a public meeting is scheduled. Please monitor the public web page.

Feedback on the NRC's implementation of the ADVANCE Act can also be provided via the publicly available feedback form on the NRC's ADVANCE Act website at https://www.nrc.gov/about-nrc/governing-laws/advance-act/contactus.html, or via email through ADVANCE-Act.Resource@nrc.gov. The NRC cautions you not to include identifying or contact information that you do not want to be publicly disclosed in your submission provided through this feedback form or email address. The NRC will enter the submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Submissions received will be considered as part of the NRC's implementation of the ADVANCE Act, and whether the NRC responds to the submission may depend on the nature of the question or comment. Submissions may be used or modified by the NRC in the NRC's implementation of the ADVANCE Act without attribution to the author of the submission.

Dated: September 23, 2024.
For the Nuclear Regulatory Commission.
Michael King,
Special Assistant to the Executive Director for Operations, Office of the Executive Director for Operations.

[FR Doc. 2024-22052 Filed 9-25-24; 8:45 am]

BILLING CODE 7590-01-P